NUCLEAR REGULATORY COMMISSION

10 CFR Part 72

[NRC-2024-0180]

RIN 3150-AL21

List of Approved Spent Fuel Storage Casks: NAC International, Inc. MAGNASTOR® Storage System, Certificate of Compliance No. 1031, Amendment No. 14 and Revisions to Amendment Nos. 0 Through 13

AGENCY: Nuclear Regulatory Commission.

ACTION: Direct final rule.

SUMMARY: The U.S. Nuclear Regulatory Commission (NRC) is amending its spent fuel storage regulations by revising the NAC International, Inc. MAGNASTOR® Storage System listing within the “List of approved spent fuel storage casks” to include Amendment No. 14 and revisions to Amendment Nos. 0 through 13 to Certificate of Compliance No. 1031. Amendment No. 14 and revisions to Amendment Nos. 0 through 13 revise the certificate of compliance to add a revised method of evaluation for the non-mechanistic tipover accident, clarify in the technical specifications that damaged missing grid spacers only apply to pressurized-water reactor fuel assembles, clarify inlet and outlet vent blockage and surveillance requirements in limiting condition for operation 3.1.2 in Appendix A to the certificate of compliance and associated technical specification bases, and remove the reference to Type II Portland cement in the description of the certificate of compliance. The NRC is also correcting typographical errors in Revision 1 to Amendment Nos. 11 to 13 and Amendment No. 14 to Certificate of Compliance No. 1031.

DATES: This direct final rule is effective March 19, 2025, unless significant adverse comments are received by February 3, 2025. If this direct final rule is withdrawn as a result of such comments, timely notice of the withdrawal will be published in the Federal Register. Comments received after this date will be considered if it is practical to do so, but the NRC is able to ensure consideration only for comments received on or before this date. Comments received on this direct final rule will also be considered to be comments on a companion proposed rule published in the Proposed Rules section of this issue of the Federal Register.

ADDRESSES: Submit your comments, identified by Docket ID NRC-2024-0180, at https://www.regulations.gov. If your material cannot be submitted using https://www.regulations.gov, call or email the individuals listed in the FOR FURTHER INFORMATION CONTACT section of this document for alternate instructions.

You can read a plain language description of this direct final rule at https://www.regulations.gov/docket/NRC-2024-0180. For additional direction on obtaining information and submitting comments, see “Obtaining Information and Submitting Comments” in the SUPPLEMENTARY INFORMATION section of this document.

FOR FURTHER INFORMATION CONTACT: Irene Wu, Office of Nuclear Material Safety and Safeguards, telephone: 301-415-1951, email: Irene.Wu@nrc.gov, and Nishka Devaser, telephone: 301-415-5196, email: Nishka.Devaser@nrc.gov. Both are staff of the U.S. Nuclear Regulatory Commission, Washington, DC 20555-0001.

SUPPLEMENTARY INFORMATION:

TABLE OF CONTENTS:

I. Obtaining Information and Submitting Comments

II. Rulemaking Procedure

III. Background

IV. Discussion of Changes

V. Voluntary Consensus Standards

VI. Agreement State Compatibility

VII. Plain Writing

VIII. Environmental Assessment and Finding of No Significant Impact

IX. Paperwork Reduction Act Statement

X. Regulatory Flexibility Certification

XI. Regulatory Analysis

XII. Backfitting and Issue Finality

XIII. Congressional Review Act

XIV. Availability of Documents

I. Obtaining Information and Submitting Comments

A. Obtaining Information

Please refer to Docket ID NRC-2024-0180 when contacting the NRC about the availability of information for this action. You may obtain publicly available information related to this action by any of the following methods:

• Federal Rulemaking website: Go to https://www.regulations.gov and search for Docket ID NRC-2024-0180. Address questions about NRC dockets to Helen Chang, telephone: 301-415-3228, email: Helen.Chang@nrc.gov. For technical questions contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

B. Submitting Comments

The NRC encourages electronic comment submission through the Federal rulemaking website (https://www.regulations.gov). Please include Docket ID NRC-2024-0180 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Rulemaking Procedure

This rule is limited to the changes contained in Amendment No. 14 and revisions to Amendment Nos. 0 through 13 to Certificate of Compliance No. 1031 and does not include other aspects of the NAC International, Inc. MAGNASTOR® Storage System design. The NRC is using the “direct final rule procedure” for this rule because it represents a limited and routine change to an existing certificate of compliance that is expected to be non-controversial. Adequate protection of public health and safety continues to be reasonably assured. The amendment to the rule will become effective on March 19, 2025. However, if the NRC receives any significant adverse comment on this direct final rule by February 3, 2025, then the NRC will publish a document that withdraws this action and will subsequently address the comments received in a final rule as a response to the companion proposed rule published in the Proposed Rules section of this issue of the Federal Register or as otherwise appropriate. In general, absent significant modifications to the proposed revisions requiring republication, the NRC will not initiate a second comment period on this action.

A significant adverse comment is a comment where the commenter explains why the rule would be inappropriate, including challenges to the rule's underlying premise or approach, or would be ineffective or unacceptable without a change. A comment is adverse and significant if:

(1) The comment opposes the rule and provides a reason sufficient to require a substantive response in a notice-and-comment process. For example, a substantive response is required when:

(a) The comment causes the NRC to reevaluate (or reconsider) its position or conduct additional analysis;

(b) The comment raises an issue serious enough to warrant a substantive response to clarify or complete the record; or

(c) The comment raises a relevant issue that was not previously addressed or considered by the NRC.

(2) The comment proposes a change or an addition to the rule, and it is apparent that the rule would be ineffective or unacceptable without incorporation of the change or addition.

(3) The comment causes the NRC to make a change (other than editorial) to the rule, certificate of compliance, or technical specifications.

III. Background

Section 218(a) of the Nuclear Waste Policy Act of 1982, as amended, requires that “[t]he Secretary [of the Department of Energy] shall establish a demonstration program, in cooperation with the private sector, for the dry storage of spent nuclear fuel at civilian nuclear power reactor sites, with the objective of establishing one or more technologies that the [Nuclear Regulatory] Commission may, by rule, approve for use at the sites of civilian nuclear power reactors without, to the maximum extent practicable, the need for additional site-specific approvals by the Commission.” Section 133 of the Nuclear Waste Policy Act states, in part, that “[t]he Commission shall, by rule, establish procedures for the licensing of any technology approved by the Commission under Section 219(a) [sic: 218(a)] for use at the site of any civilian nuclear power reactor.”

To implement this mandate, the Commission approved dry storage of spent nuclear fuel in NRC-approved casks under a general license by publishing a final rule that added a new subpart K in part 72 of title 10 of the Code of Federal Regulations (10 CFR) entitled “General License for Storage of Spent Fuel at Power Reactor Sites” (55 FR 29181; July 18, 1990). This rule also established a new subpart L in 10 CFR part 72 entitled “Approval of Spent Fuel Storage Casks,” which contains procedures and criteria for obtaining NRC approval of spent fuel storage cask designs. The NRC subsequently issued a final rule on November 21, 2008 (73 FR 70587), that approved the NAC International, Inc. MAGNASTOR® Storage System design and added it to the list of NRC-approved cask designs in § 72.214 as Certificate of Compliance No. 1031.

IV. Discussion of Changes

On July 24, 2023, NAC International, Inc. submitted a request to the NRC to amend Certificate of Compliance No. 1031. NAC International, Inc. supplemented its request on June 26, 2024, October 18, 2023, and August 6, 2024. Amendment No. 14 and revisions to Amendment Nos. 0 through 13 revise the certificate of compliance to add a revised method of evaluation for the non-mechanistic tipover accident, clarify in the technical specifications that damaged missing grid spacers only apply to pressurized-water reactor fuel assembles, clarify inlet and outlet vent blockage and surveillance requirements in limiting condition for operation 3.1.2 in Appendix A to the certificate of compliance and associated technical specification bases, and remove the reference to Type II Portland cement in the description of the certificate of compliance. The NRC is also correcting several typographical errors in: (1) tables B2-10c and B2-10d in Revision 1 to Amendment Nos. 11 through 13 and (2) the section numbering in Appendix B to Amendment No. 14 and Revision 1 to Amendment No. 13. The changes to the aforementioned documents are identified with revisions bars in the margin of each document.

As documented in the preliminary safety evaluation report, the NRC performed a safety evaluation of the proposed certificate of compliance amendment request. The NRC determined that this amendment does not reflect a significant change in design or fabrication of the cask. Specifically, the NRC determined that the design of the cask would continue to maintain confinement, shielding, and criticality control in the event of each evaluated accident condition. In addition, any resulting occupational exposure or offsite dose rates from the implementation of Amendment No. 14 and revisions to Amendment Nos. 0 through 13 would remain well within the limits specified by 10 CFR part 20, “Standards for Protection Against Radiation.” Thus, the NRC found there will be no significant change in the types or amounts of any effluent released, no significant increase in the individual or cumulative radiation exposure, and no significant increase in the potential for or consequences from radiological accidents.

The NRC staff determined that the amended NAC International, Inc. MAGNASTOR® Storage System cask design, when used under the conditions specified in the certificate of compliance, the technical specifications, and the NRC's regulations, will meet the requirements of 10 CFR part 72; therefore, adequate protection of public health and safety will continue to be reasonably assured. When this direct final rule becomes effective, persons who hold a general license under § 72.210 may, consistent with the license conditions under § 72.212, load spent nuclear fuel into NAC International, Inc. MAGNASTOR® Storage System casks that meet the criteria of the revised Amendment Nos. 0 through 13 and new Amendment No. 14 to Certificate of Compliance No. 1031.

V. Voluntary Consensus Standards

The National Technology Transfer and Advancement Act of 1995 (Pub. L. 104-113) requires that Federal agencies use technical standards that are developed or adopted by voluntary consensus standards bodies unless the use of such a standard is inconsistent with applicable law or otherwise impractical. In this direct final rule, the NRC revises the NAC International, Inc. MAGNASTOR® Storage Cask System design listed in § 72.214, “List of approved spent fuel storage casks.” This action does not constitute the establishment of a standard that contains generally applicable requirements.

VI. Agreement State Compatibility

Under the “Agreement State Program Policy Statement” approved by the Commission on October 2, 2017, and published in the Federal Register on October 18, 2017 (82 FR 48535), this rule is classified as Compatibility Category NRC-Areas of Exclusive NRC Regulatory Authority. The NRC program elements in this category are those that relate directly to areas of regulation reserved to the NRC by the Atomic Energy Act of 1954, as amended, or the provisions of 10 CFR chapter I. Therefore, compatibility is not required for program elements in this category.

VII. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31885).

VIII. Environmental Assessment and Finding of No Significant Impact

Under the National Environmental Policy Act of 1969, as amended, and the NRC's regulations in 10 CFR part 51, “Environmental Protection Regulations for Domestic Licensing and Related Regulatory Functions,” the NRC has determined that this direct final rule, if adopted, would not be a major Federal action significantly affecting the quality of the human environment and, therefore, an environmental impact statement is not required. The NRC has made a finding of no significant impact on the basis of this environmental assessment.

A. The Action

The action is to amend § 72.214 to revise the NAC International, Inc. MAGNASTOR® Storage System listing within the “List of approved spent fuel storage casks” to include Amendment No. 14 and to include revisions to Amendment Nos. 0 through 13 to Certificate of Compliance No. 1031.

B. The Need for the Action

This direct final rule amends the certificate of compliance for the NAC International, Inc. MAGNASTOR® Storage System design within the list of approved spent fuel storage casks to allow power reactor licensees to store spent fuel at reactor sites in casks with the approved modifications under a general license. Specifically, Amendment No. 14 and revisions to Amendment Nos. 0 through 13 revise the certificate of compliance to add a revised method of evaluation for the non-mechanistic tipover accident, clarify in the technical specifications that damaged missing grid spacers only apply to pressurized-water reactor fuel assembles, clarify inlet and outlet vent blockage and surveillance requirements in limiting condition for operation 3.1.2 in Appendix A to the certificate of compliance and associated technical specification bases, and remove the reference to Type II Portland cement in the description of the certificate of compliance.

C. Environmental Impacts of the Action

On July 18,1990 (55 FR 29181), the NRC issued an amendment to 10 CFR part 72 to provide for the storage of spent fuel under a general license in cask designs approved by the NRC. The potential environmental impact of using NRC-approved storage casks was analyzed in the environmental assessment for the 1990 final rule. The environmental assessment for this Amendment No. 14 and revisions to Amendment Nos. 0 through 13 tiers off of the environmental assessment for the July 18, 1990, final rule. Tiering on past environmental assessments is a standard process under the National Environmental Policy Act of 1969, as amended.

The NAC International, Inc. MAGNASTOR® Storage System is designed to mitigate the effects of design basis accidents that could occur during storage. Design basis accidents account for human-induced events and the most severe natural phenomena reported for the site and surrounding area. Postulated accidents analyzed for an independent spent fuel storage installation, the type of facility at which a holder of a power reactor operating license would store spent fuel in casks in accordance with 10 CFR part 72, can include tornado winds and tornado-generated missiles, a design basis earthquake, a design basis flood, an accidental cask drop, lightning effects, fire, explosions, and other incidents.

This amendment does not reflect a significant change in design or fabrication of the cask. Because there are no significant design or process changes, any resulting occupational exposure or offsite dose rates from the implementation of Amendment No. 14 and revisions to Amendment Nos. 0 through 13 would remain well within the 10 CFR part 20 limits. The NRC has also determined that the design of the cask as modified by this rule would maintain confinement, shielding, and criticality control in the event of an accident. Therefore, the proposed changes will not result in any radiological or non-radiological environmental impacts that significantly differ from the environmental impacts evaluated in the environmental assessment supporting the July 18, 1990, final rule. There will be no significant change in the types or significant revisions in the amounts of any effluent released, no significant increase in the individual or cumulative radiation exposures, and no significant increase in the potential for, or consequences from, radiological accidents. The NRC documented its safety findings in the preliminary safety evaluation report.

D. Alternative to the Action

The alternative to this action is to deny approval of Amendment No. 14 and revisions to Amendment Nos. 0 through 13 and not issue the direct final rule. Consequently, any 10 CFR part 72 general licensee that seeks to load spent nuclear fuel into the NAC International, Inc. MAGNASTOR® Storage System in accordance with the changes described in proposed Amendment No. 14 and revisions to Amendment Nos. 0 through 13 would have to request an exemption from the requirements of §§ 72.212 and 72.214. Under this alternative, interested licensees would have to prepare, and the NRC would have to review, a separate exemption request, thereby increasing the administrative burden upon the NRC and the costs to each licensee. The environmental impacts would be the same as the proposed action.

E. Alternative Use of Resources

Approval of Amendment No. 14 and revisions to Amendment Nos. 0 through 13 to Certificate of Compliance No. 1031 would result in no irreversible and irretrievable commitments of Federal resources.

F. Agencies and Persons Contacted

No agencies or persons outside the NRC were contacted in connection with the preparation of this environmental assessment.

G. Finding of No Significant Impact

The environmental impacts of the action have been reviewed under the requirements in the National Environmental Policy Act of 1969, as amended, and the NRC's regulations in subpart A of 10 CFR part 51, “Environmental Protection Regulations for Domestic Licensing and Related Regulatory Functions.” Based on the foregoing environmental assessment, the NRC concludes that this direct final rule, “List of Approved Spent Fuel Storage Casks: NAC International, Inc. MAGNASTOR® Storage System Certificate of Compliance No. 1031, Amendment No. 14 and Revisions to Amendment Nos. 0 through 13,” will not have a significant effect on the human environment. Therefore, the NRC has determined that an environmental impact statement is not necessary for this direct final rule.

IX. Paperwork Reduction Act Statement

This direct final rule does not contain any new or amended collections of information subject to the Paperwork Reduction Act of 1995 (44 U.S.C. 3501 et seq.). Existing collections of information were approved by the Office of Management and Budget, approval number 3150-0132.

Public Protection Notification

The NRC may not conduct or sponsor, and a person is not required to respond to, a request for information or an information collection requirement unless the requesting document displays a currently valid Office of Management and Budget control number.

X. Regulatory Flexibility Certification

Under the Regulatory Flexibility Act of 1980 (5 U.S.C. 605(b)), the NRC certifies that this direct final rule will not, if issued, have a significant economic impact on a substantial number of small entities. This direct final rule affects only nuclear power plant licensees and NAC International, Inc. These entities do not fall within the scope of the definition of small entities set forth in the Regulatory Flexibility Act or the size standards established by the NRC (§ 2.810).

XI. Regulatory Analysis

On July 18, 1990 (55 FR 29181), the NRC issued an amendment to 10 CFR part 72 to provide for the storage of spent nuclear fuel under a general license in cask designs approved by the NRC. Any nuclear power reactor licensee can use NRC-approved cask designs to store spent nuclear fuel if (1) it notifies the NRC in advance; (2) the spent fuel is stored under the conditions specified in the cask's certificate of compliance; and (3) the conditions of the general license are met. A list of NRC-approved cask designs is contained in § 72.214. On November 21, 2008 (73 FR 70587), the NRC issued an amendment to 10 CFR part 72 that approved the NAC International, Inc. MAGNASTOR® Storage System design by adding it to the list of NRC-approved cask designs in § 72.214.

On July 24, 2023, and as supplemented on June 26, 2024, October 18, 2023, and August 6, 2024, NAC International, Inc. submitted a request to amend Certificate of Compliance No. 1031 as described in Section IV, “Discussion of Changes,” of this document.

The alternative to this action is to withhold approval of Amendment No. 14 and revisions to Amendment Nos. 0 through 13 and to require any 10 CFR part 72 general licensee seeking to load spent nuclear fuel into the NAC International, Inc. MAGNASTOR® Storage System under the changes described in Amendment No. 14 and revisions to Amendment Nos. 0 through 13 to request an exemption from the requirements of § 72.212 and § 72.214. Under this alternative, each interested 10 CFR part 72 licensee would have to prepare, and the NRC would have to review, a separate exemption request, thereby increasing the administrative burden upon the NRC and the costs to each licensee.

Approval of this direct final rule is consistent with previous NRC actions. Further, as documented in the preliminary safety evaluation report and environmental assessment, this direct final rule will have no adverse effect on public health and safety or the environment. This direct final rule has no significant identifiable impact or benefit on other government agencies. Based on this regulatory analysis, the NRC concludes that the requirements of this direct final rule are commensurate with the NRC's responsibilities for public health and safety and the common defense and security. No other available alternative is believed to be as satisfactory; therefore, this action is recommended.

XII. Backfitting and Issue Finality

The NRC has determined that the regulations in 10 CFR 72.62, “Backfitting,” do not apply to this direct final rule. This direct final rule revises Certificate of Compliance No. 1031 for the NAC International, Inc. MAGNASTOR® Storage System, as currently listed in § 72.214. The revision consists of the changes in Amendment No. 14 and revisions to Amendment Nos. 0 through 13 previously described, as set forth in the revised certificate of compliance and technical specifications.

Amendment No. 14 to Certificate of Compliance No. 1031 for the NAC International, Inc. MAGNASTOR® Storage System was initiated by NAC International, Inc. and was not submitted in response to new NRC requirements, or an NRC request for amendment. Amendment No. 14 applies only to new casks fabricated and used under Amendment No. 14. These changes do not affect existing users of the NAC International, Inc. MAGNASTOR® Storage System, and the current Amendment No. 13 continues to be effective for existing users. While current users of this storage system may comply with the new requirements in Amendment No. 14, this would be a voluntary decision on the part of current users. For these reasons, Amendment No. 14 to Certificate of Compliance No. 1031 does not constitute backfitting under § 72.62 or § 50.109(a)(1), or otherwise represent an inconsistency with the issue finality provisions applicable to combined licenses in 10 CFR part 52.

The general licensees using Amendment Nos. 0 through 13 that are being revised are required to meet the conditions of the revised certificates of compliance. The NRC added a condition to the revised certificates of compliance that require the general licensee to implement the revised certificates of compliance within 6 months and perform written evaluations in accordance with § 72.212(b)(5), which establish that the cask will conform to the terms, conditions, and specifications of the revised certificates of compliance. The 6-month timeframe in the condition is considered a standard timeframe for implementation, consistent with the information in Regulatory Issue Summary 2017-05, “Administration of 10 CFR part 72 Certificate of Compliance Corrections and Revisions.”

NAC International, Inc. has manufactured casks under the existing Certificate of Compliance No. 1031, Amendment Nos. 0 through 13, that are being revised by this final rule. As the vendor, NAC International, Inc. is not within the scope of the backfitting provisions in § 72.62. Under § 72.62, general licensees are entities that are within the scope of the backfitting regulations. However, according to NAC International, Inc., no general licensees have purchased the MAGNASTOR® Storage System under Certificate of Compliance No. 1031, Amendment Nos. 0 through 5, Amendment No. 8, and Amendment Nos. 10 through 12. In addition, by letter dated October 18, 2023, NAC International, Inc. provided letters from all its users for the MAGNASTOR® Storage System. None of the users in the letters are using Amendment Nos. 0 through 5, Amendment No. 8, and Amendment Nos. 10 through 12. Therefore, because Certificate of Compliance No. 1031, Amendment Nos. 0 through 5, Amendment No. 8, and Amendment Nos. 10 through 12 are not in use by a licensee and no licensee has contracted with NAC International, Inc. to utilize storage casks for these amendments, the changes in the revision to Certificate of Compliance No. 1031, Amendment Nos. 0 through 5, Amendment No. 8, and Amendment Nos. 10 through 12, which are approved in this direct final rule, do not fall within the definition of backfitting under § 72.62.

Dominion Energy Kewaunee at the Kewaunee independent spent fuel storage installation and ZionSolutions at its independent spent fuel storage installation are the two general licensees using revision 1 to Amendment No. 6 that could be affected by the issuance of revision 2 to Amendment No. 6. In a letter to NAC International, Inc., Dominion Energy Kewaunee stated that it would voluntarily adopt revision 2 to Amendment No. 6. Zion Solutions also stated in a letter that it intends to implement the revised certificate after its issuance. Because both licensees voluntarily intend to implement the revision, the issuance of revision 2 to Amendment No. 6 does not fall within the definition of backfitting under § 72.62.

Arizona Public Service Company at the Palo Verde independent spent fuel storage installation and Duke Energy at the Catawba and McGuire independent spent fuel storage installations are the general licensees using revision 1 to Amendment No. 7 that could be affected by the issuance of revision 2 to Amendment No. 7. In their letters to NAC International, Inc., Arizona Public Service Company and Duke Energy stated that they intend to implement revision 2 to Amendment No. 7. Therefore, because the licensees voluntarily intend to implement the revision, issuance of revision 2 to Amendment No. 7 does not fall within the definition of backfitting under § 72.62.

Constellation Energy Generation at its Three Mile Island Unit 1 independent spent fuel storage installation is the only general licensee using revision 1 to Amendment No. 9 that could be affected by the issuance of revision 2 to Amendment No. 9. In its letter to NAC International, Inc., Constellation Energy Generation stated that it intends to implement revision 2 to Amendment No. 9 in a timely manner after NRC approval of the revision has been received. Therefore, because the licensee voluntarily intends to implement the revision, issuance of revision 2 to Amendment No. 9 does not fall within the definition of backfitting under § 72.62.

Three Mile Island Nuclear Station, Unit 2 Solutions contracted with NAC International, Inc. to utilize storage casks using Amendment No. 13 and could be affected by the issuance of revision 1 to Amendment No. 13. In its letter to NAC International, Inc., Three Mile Island Nuclear Station, Unit 2 Solutions stated that it intends to implement the revised certificate for Amendment No. 13 for MAGNASTOR® Storage System at the Three Mile Island Nuclear Station, Unit 2, independent spent fuel storage installation after NRC approval of the revision. Therefore, because Three Mile Island Nuclear Station, Unit 2 Solutions voluntarily intends to implement the revision, issuance of revision 1 to Amendment No. 13 does not fall within the definition of backfitting under § 72.62.

XIII. Congressional Review Act

This direct final rule is not a rule as defined in the Congressional Review Act.

XIV. Availability of Documents

The documents identified in the following table are available to interested persons as indicated.

Document | ADAMS Accession No./ weblink/ Federal Register citation
Proposed Certificate of Compliance and Proposed Technical Specifications
Proposed Certificate of Compliance No. 1031, Amendment No. 14 | ML24211A240
Proposed Certificate of Compliance No. 1031, Amendment No. 14, Appendix A: Technical Specifications and Design Features | ML24211A241
Proposed Certificate of Compliance No. 1031, Amendment No. 14, Appendix B: Approved Contents | ML24211A242
Proposed Certificate of Compliance No. 1031, Amendment No. 0, Revision 3 | ML24211A244
Proposed Certificate of Compliance No. 1031, Amendment No. 0, Revision 3, Appendix A: Technical Specifications and Design Features | ML24211A245
Proposed Certificate of Compliance No. 1031, Amendment No. 0, Revision 3, Appendix B: Approved Contents | ML24211A246
Proposed Certificate of Compliance No. 1031, Amendment No. 1, Revision 3 | ML24211A247
Proposed Certificate of Compliance No. 1031, Amendment No. 1, Revision 3, Appendix A: Technical Specifications and Design Features | ML24211A248
Proposed Certificate of Compliance No. 1031, Amendment No. 1, Revision 3, Appendix B: Approved Contents | ML24211A249
Proposed Certificate of Compliance No. 1031, Amendment No. 2, Revision 3 | ML24211A250
Proposed Certificate of Compliance No. 1031, Amendment No. 2, Revision 3, Appendix A: Technical Specifications and Design Features | ML24211A251
Proposed Certificate of Compliance No. 1031, Amendment No. 2, Revision 3, Appendix B: Approved Contents | ML24211A252
Proposed Certificate of Compliance No. 1031, Amendment No. 3, Revision 3 | ML24211A253
Proposed Certificate of Compliance No. 1031, Amendment No. 3, Revision 3, Appendix A: Technical Specifications and Design Features | ML24211A254
Proposed Certificate of Compliance No. 1031, Amendment No. 3, Revision 3, Appendix B: Approved Contents | ML24211A255
Proposed Certificate of Compliance No. 1031, Amendment No. 4, Revision 2 | ML24211A256
Proposed Certificate of Compliance No. 1031, Amendment No. 4, Revision 2, Appendix A: Technical Specifications and Design Features | ML24211A257
Proposed Certificate of Compliance No. 1031, Amendment No. 4, Revision 2, Appendix B: Approved Contents | ML24211A258
Proposed Certificate of Compliance No. 1031, Amendment No. 5, Revision 2 | ML24211A259
Proposed Certificate of Compliance No. 1031, Amendment No. 5, Revision 2, Appendix A: Technical Specifications and Design Features | ML24211A260
Proposed Certificate of Compliance No. 1031, Amendment No. 5, Revision 2, Appendix B: Approved Contents | ML24211A261
Proposed Certificate of Compliance No. 1031, Amendment No. 6, Revision 2 | ML24211A262
Proposed Certificate of Compliance No. 1031, Amendment No. 6, Revision 2, Appendix A: Technical Specifications and Design Features | ML24211A263
Proposed Certificate of Compliance No. 1031, Amendment No. 6, Revision 2, Appendix B: Approved Contents | ML24211A264
Proposed Certificate of Compliance No. 1031, Amendment No. 7, Revision 2 | ML24211A265
Proposed Certificate of Compliance No. 1031, Amendment No. 7, Revision 2, Appendix A: Technical Specifications and Design Features | ML24211A266
Proposed Certificate of Compliance No. 1031, Amendment No. 7, Revision 2, Appendix B: Approved Contents | ML24211A267
Proposed Certificate of Compliance No. 1031, Amendment No. 8, Revision 2 | ML24211A268
Proposed Certificate of Compliance No. 1031, Amendment No. 8, Revision 2, Appendix A: Technical Specifications and Design Features | ML24211A269
Proposed Certificate of Compliance No. 1031, Amendment No. 8, Revision 2, Appendix B: Approved Contents | ML24211A270
Proposed Certificate of Compliance No. 1031, Amendment No. 9, Revision 2 | ML24211A271
Proposed Certificate of Compliance No. 1031, Amendment No. 9, Revision 2, Appendix A: Technical Specifications and Design Features | ML24211A272
Proposed Certificate of Compliance No. 1031, Amendment No. 9, Revision 2, Appendix B: Approved Contents | ML24211A273
Proposed Certificate of Compliance No. 1031, Amendment No. 10, Revision 1 | ML24211A274
Proposed Certificate of Compliance No. 1031, Amendment No. 10, Revision 1, Appendix A: Technical Specifications and Design Features | ML24211A275
Proposed Certificate of Compliance No. 1031, Amendment No. 10, Revision 1, Appendix B: Approved Contents | ML24211A276
Proposed Certificate of Compliance No. 1031, Amendment No. 11, Revision 1 | ML24211A277
Proposed Certificate of Compliance No. 1031, Amendment No. 11, Revision 1, Appendix A: Technical Specifications and Design Features | ML24211A278
Proposed Certificate of Compliance No. 1031, Amendment No. 11, Revision 1, Appendix B: Approved Contents | ML24211A279
Proposed Certificate of Compliance No. 1031, Amendment No. 12, Revision 1 | ML24211A280
Proposed Certificate of Compliance No. 1031, Amendment No. 12, Revision 1, Appendix A: Technical Specifications and Design Features | ML24211A281
Proposed Certificate of Compliance No. 1031, Amendment No. 12, Revision 1, Appendix B: Approved Contents | ML24211A282
Proposed Certificate of Compliance No. 1031, Amendment No. 13, Revision 1 | ML24211A283
Proposed Certificate of Compliance No. 1031, Amendment No. 13, Revision 1, Appendix A: Technical Specifications and Design Features | ML24211A284
Proposed Certificate of Compliance No. 1031, Amendment No. 13, Revision 1, Appendix B: Approved Contents | ML24211A285
Preliminary Safety Evaluation Report, Certificate of Compliance No. 1031, Amendment No. 14 and Revision to Amendment Nos. 0 through 13 | ML24211A243
NAC International, Inc. MAGNASTOR® Storage System Amendment No. 14 and Revisions to Amendment Nos. 0 through 13 Request Documents
NAC International, Inc., Submission of an Amendment Request for the MAGNASTOR® Cask System, Amendment No. 14, dated July 24, 2023 | ML23205A238
NAC International, Inc., Submission of Data Files to Support the NRC Review of MAGNASTOR® Amendment No. 14, dated July 24, 2023 | ML23208A062
NAC International, Inc., Submission of Responses to the NRC Request for Additional Information for MAGNASTOR® Cask System, Amendment No. 14, dated June 26, 2024 | ML24179A071 (package)
NAC International, Inc., Supplement to the Amendment Request No. 14 for the MAGNASTOR® Cask System, dated October 18, 2023 | ML23291A167
NAC International, Inc., Supplement to the Amendment Request No. 14 for the MAGNASTOR® Cask System, dated August 6, 2024 | ML24219A227
NAC International, Inc., MAGNASTOR® Cask System Users Certificate of Compliance No. 1031 Amendment Nos. 0 through 9 Intent to Adopt Letters, dated August 4, 2022 | ML22216A110
Other Documents
Rulemaking Memorandum for Amendment No. 14 and Revision to Amendment Nos. 0 through 13 for the MAGNASTOR® Storage System, dated September 20, 2024 | ML24211A239
Final Rule, “Storage of Spent Fuel in NRC-Approved Storage Casks at Power Reactor Sites,” published July 18, 1990 | 55 FR 29181
Final Rule, “List of Approved Spent Fuel Storage Casks: MAGNASTOR Addition,” published November 21, 2008 | 73 FR 70587
Revision to Policy Statement, “Agreement State Program Policy Statement; Correction,” published October 18, 2017 | 82 FR 48535
Presidential Memorandum, “Plain Language in Government Writing,” published June 10, 1998 | 63 FR 31885
Regulatory Issue Summary 2017-05, “Administration of 10 CFR Part 72 Certificate of Compliance Corrections and Revisions” | ML17165A183

The NRC may post materials related to this document, including public comments, on the Federal rulemaking website at https://www.regulations.gov under Docket ID NRC-2024-0180. In addition, the Federal rulemaking website allows members of the public to receive alerts when changes or additions occur in a docket folder. To subscribe: (1) navigate to the docket folder (NRC-2024-0180); (2) click the “Subscribe” link; and (3) enter an email address and click on the “Subscribe” link.

List of Subjects in 10 CFR Part 72

Administrative practice and procedure, Hazardous waste, Indians, Intergovernmental relations, Nuclear energy, Penalties, Radiation protection, Reporting and recordkeeping requirements, Security measures, Spent fuel, Whistleblowing.

For the reasons set out in the preamble and under the authority of the Atomic Energy Act of 1954, as amended; the Energy Reorganization Act of 1974, as amended; the Nuclear Waste Policy Act of 1982, as amended; and 5 U.S.C. 552 and 553; the NRC is adopting the following amendments to 10 CFR part 72:

PART 72—LICENSING REQUIREMENTS FOR THE INDEPENDENT STORAGE OF SPENT NUCLEAR FUEL, HIGH-LEVEL RADIOACTIVE WASTE, AND REACTOR-RELATED GREATER THAN CLASS C WASTE

1. The authority citation for part 72 continues to read as follows:

Authority: Atomic Energy Act of 1954, secs. 51, 53, 57, 62, 63, 65, 69, 81, 161, 182, 183, 184, 186, 187, 189, 223, 234, 274 (42 U.S.C. 2071, 2073, 2077, 2092, 2093, 2095, 2099, 2111, 2201, 2210e, 2232, 2233, 2234, 2236, 2237, 2238, 2273, 2282, 2021); Energy Reorganization Act of 1974, secs. 201, 202, 206, 211 (42 U.S.C. 5841, 5842, 5846, 5851); National Environmental Policy Act of 1969 (42 U.S.C. 4332); Nuclear Waste Policy Act of 1982, secs. 117(a), 132, 133, 134, 135, 137, 141, 145(g), 148, 218(a) (42 U.S.C. 10137(a), 10152, 10153, 10154, 10155, 10157, 10161, 10165(g), 10168, 10198(a)); 44 U.S.C. 3504 note.

2. In § 72.214, Certificate of Compliance No. 1031 is revised to read as follows:

§ 72.214 List of approved spent fuel storage casks.

* * * * *

Certificate Number: 1031.

Initial Certificate Effective Date: February 4, 2009, superseded by Initial Certificate, Revision 1, on February 1, 2016, superseded by Initial Certificate, Revision 2, on October 16, 2023, superseded by Initial Certificate, Revision 3, on March 19, 2025.

Amendment Number 1 Effective Date: August 30, 2010, superseded by Amendment Number 1, Revision 1, on February 1, 2016, superseded by Amendment Number 1, Revision 2, on October 16, 2023, superseded by Amendment Number 1, Revision 3, on March 19, 2025.

Amendment Number 2 Effective Date: January 30, 2012, superseded by Amendment Number 2, Revision 1, on February 1, 2016, superseded by Amendment Number 2, Revision 2, on October 16, 2023, superseded by Amendment Number 2, Revision 3, on March 19, 2025.

Amendment Number 3 Effective Date: July 25, 2013, superseded by Amendment Number 3, Revision 1, on February 1, 2016, superseded by Amendment Number 3, Revision 2, on October 16, 2023, superseded by Amendment Number 3, Revision 3, on March 19, 2025.

Amendment Number 4 Effective Date: April 14, 2015, superseded by Amendment Number 4, Revision 1, on October 16, 2023, superseded by Amendment Number 4, Revision 2, on March 19, 2025.

Amendment Number 5 Effective Date: June 29, 2015, superseded by Amendment Number 5, Revision 1, on October 16, 2023, superseded by Amendment Number 5, Revision 2, on March 19, 2025.

Amendment Number 6 Effective Date: December 21, 2016, superseded by Amendment Number 6, Revision 1, on October 16, 2023, superseded by Amendment Number 6, Revision 2, on March 19, 2025.

Amendment Number 7 Effective Date: August 21, 2017, as corrected (ADAMS Accession No. ML19045A346), superseded by Amendment Number 7, Revision 1, on October 16, 2023, superseded by Amendment Number 7, Revision 2, on March 19, 2025.

Amendment Number 8 Effective Date: March 24, 2020, superseded by Amendment Number 8, Revision 1, on October 16, 2023, superseded by Amendment Number 8, Revision 2, on March 19, 2025.

Amendment Number 9 Effective Date: December 7, 2020, superseded by Amendment Number 9, Revision 1, on October 16, 2023, superseded by Amendment Number 9, Revision 2, on March 19, 2025.

Amendment Number 10 Effective Date: January 18, 2023, superseded by Amendment Number 10, Revision 1, on March 19, 2025.

Amendment Number 11 Effective Date: October 16, 2023, superseded by Amendment Number 11, Revision 1, on March 19, 2025.

Amendment Number 12 Effective Date: October 16, 2023, superseded by Amendment Number 12, Revision 1, on March 19, 2025.

Amendment Number 13 Effective Date: November 19, 2024, superseded by Amendment Number 13, Revision 1, on March 19, 2025.

Amendment Number 14 Effective Date: March 19, 2025.

SAR Submitted by: NAC International, Inc.

SAR Title: Final Safety Analysis Report for the MAGNASTOR® System.

Docket Number: 72-1031.

Certificate Expiration Date: February 4, 2029.

Model Number: MAGNASTOR®.

* * * * *

Dated: December 20, 2024.
For the Nuclear Regulatory Commission.
Mirela Gavrilas,
Executive Director for Operations.

[FR Doc. 2024-31095 Filed 1-2-25; 8:45 am]

BILLING CODE 7590-01-P